DEPARTMENT OF ENERGY

Federal Energy Regulatory Commission

[Project No. 2576-139]

FirstLight Hydro Generating Company; Notice of Application for Amendment of License and Soliciting Comments, Motions To Intervene, and Protests

February 24, 2010.

Take notice that the following hydroelectric application has been filed with the Commission and is available for public inspection:

a. Application Type: Revised Shoreline Management Plan.

b. Project No: 2576-139.

c. Date Filed: June 30, 2009 and supplemented on December 4, 2009.

d. Applicant: FirstLight Power Hydro Generating Company.

e. Name of Project: Housatonic River Hydroelectric Project.

f. Location: The project is located on the Housatonic River, in Fairfield, Litchfield and New Haven Counties, Connecticut. The project does not occupy any federal land.

g. Filed Pursuant to: Federal Power Act, 16 U.S.C. 791(a)-825(r).

h. Applicant Contact: Mr. Robert Gates, Station Manager-Connecticut Hydro, 143 West St., Ext. Suite E, New Milford, CT 06776, (860) 350-3617.

i. FERC Contact: Any questions on this notice should be addressed to Isis Johnson at (202) 502-6346, or by e-mail: Isis.Johnson@ferc.gov.

j. Deadline for filing comments and/or motions: March 24, 2010.

This notice is intended to grant members of the public the opportunity to provide comments on the revised shoreline management plan (plan or SMP), and the additional information filed by the licensee on December 4, 2009. The SMP filed pursuant to this proceeding has been modified from the original plan, filed on July 27, 2006, and supplemented on January 18, and June 27, 2008. Any entity that previously intervened in the proceeding for the original plan (p-2576-083), is a party to this proceeding (p-2576-139) and is not required to submit additional motions. However, given that the revised plan has changed significantly from the original, to the extent that interveners need to modify or provide additional comments, such comments should be filed with the Commission per the instructions below. Further, all unsolicited comments that have been filed with the Commission in response to this proceeding are applicable and will be considered; as such, re-filing of said comments is not necessary.

Comments, Motions to Intervene, and Protests may be filed electronically via the Internet. See, 18 CFR 385.2001(a)(1)(iii) and the instructions on the Commission's Web site at http://www.ferc.gov under the “e-Filing” link. If unable to be filed electronically, documents may be paper-filed. To paper-file, an original and eight copies should be mailed to: Secretary, Federal Energy Regulatory Commission, 888 First Street, NE., Washington, DC 20426. For more information on how to submit these types of filings, please go to the Commission's Web site located at http://www.ferc.gov.filing-comments.asp.

Please include the project number (P-2576-139) on any comments, protests, or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Proposal: The proposed SMP is intended to provide for the maintenance of safe public access to lake shorelines and riverfront lands and waters, as well as for the stewardship and development of shoreline/riverfront areas. The SMP contains provisions for permitting non-project uses, establishing vegetated buffers, and conserving land owned by the licensee. The SMP also addresses, among other matters, management of derelict docks, moorings, shoreline stabilization methods, and enforcement.

l. A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “PROTEST”, OR “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2010-4353 Filed 3-2-10; 8:45 am]

BILLING CODE 6717-01-P